FEDERAL TRADE COMMISSION

16 CFR Part 305

RIN 3084-AA74

Appliance Labeling Rule

AGENCY: Federal Trade Commission (“FTC” or “Commission”).

ACTION: Final rule; correction.

SUMMARY: The Commission is issuing this Notice to make technical corrections to the Appliance Labeling Rule. The corrections are necessary to ensure that amendatory language published on December 28, 2006 and scheduled to become effective on January 1, 2009 is consistent with other Rule amendments that have been codified since 2006 and are already effective.

DATES: The corrections published in this document will become effective on January 1, 2009.

ADDRESSES: Requests for copies of this document are available from: Public Reference Branch, Room 130, Federal Trade Commission, 600 Pennsylvania Avenue, NW, Washington, DC 20580. The complete record of this proceeding is also available at that address. Relevant portions of the proceeding, including this document, are available at http://www.ftc.gov.

FOR FURTHER INFORMATION CONTACT: Hampton Newsome, (202) 326-2889, Attorney, Division of Enforcement, Bureau of Consumer Protection, Federal Trade Commission, 600 Pennsylvania Avenue, NW, Washington, DC 20580.

SUPPLEMENTARY INFORMATION:

I. Background

Over the last two years, the Commission has issued amendments to its Appliance Labeling Rule (16 CFR Part 305) in three separate proceedings related to: (1) ceiling fan labels (71 FR 78064 (Dec. 28, 2006)), (2) appliance label designs (72 FR 49948 (Aug. 29, 2007)), and (3) metal halide lamp fixtures (73 FR 39221 (July 9, 2008)). The effective dates of these three sets of amendments differ. The label design amendments became effective on February 29, 2008 while the ceiling fan and metal halide amendments will both become effective on January 1, 2009. Because the publication of the ceiling fan amendments preceded the label design amendments, the amendatory instructions in the ceiling fan Federal Register Notice are not consistent with the existing Rule provisions. For example, the label design amendments created new section numbers and whole provisions that were not extant at the time the ceiling fan amendments were published. Therefore, the citations for the ceiling fan amendments are no longer accurate. To harmonize the various amendments, the Commission is consolidating the ceiling fan and metal halide amendments in a format consistent with the Rule’s current provisions. The corrections included in this Notice contain no substantive changes to these previously announced Rule amendments.¹

¹ In addition to these conforming changes necessary to harmonize the amendments, this Notice contains three non-substantive changes. First, section 305.20 has been changed to clarify that the catalog disclosure requirements in section 305.20(a) do not apply to ceiling fans (instead, section 305.20(f) contains the catalog requirements for ceiling fans). Second, this Notice places the ceiling fan labeling requirements in a new section (305.13 Labeling for ceiling fans). Third, in the sample ceiling fan label in Appendix L, the airflow efficiency number has been corrected to match the airflow and electricity use numbers on that label.

II. Administrative Procedure Act

The amendments published in this notice involve technical and minor, or conforming changes to the labeling requirements in the Rule. These technical amendments merely ensure that previously announced amendatory instructions are consistent with current Rule provisions. They contain no substantive changes to amendments previously announced by the Commission. Accordingly, the Commission finds for good cause that public comment for these technical, procedural amendments is impractical and unnecessary (5 U.S.C. 553(b)(A)(B) and (d)).

III. Regulatory Flexibility Act

The provisions of the Regulatory Flexibility Act relating to a Regulatory Flexibility Act analysis (5 U.S.C. 603-604) are not applicable to this proceeding because the amendments do not impose any new obligations on entities regulated by the Appliance Labeling Rule. These technical amendments merely change the format and citations for previously announced amendments. Thus, the amendments will not have a “significant economic impact on a substantial number of small entities.” 5 U.S.C. 605. The Commission has concluded, therefore, that a regulatory flexibility analysis is not necessary, and certifies, under Section 605 of the Regulatory Flexibility Act (5 U.S.C. 605(b)), that the amendments announced today will not have a significant economic impact on a substantial number of small entities.

IV. Paperwork Reduction Act

In a June 13, 1988 notice (53 FR 22106), the Commission stated that the Rule contains disclosure and reporting requirements that constitute “information collection requirements” as defined by 5 CFR 1320.7, the regulation that implements the Paperwork Reduction Act.² The Commission noted that the Rule had been reviewed and approved in 1984 by the Office of Management and Budget (“OMB”) and assigned OMB Control No. 3084-0068. OMB has reviewed the Rule and extended its approval for its recordkeeping and reporting requirements until May 31, 2011. The amendments now being adopted do not change the substance or frequency of the recordkeeping, disclosure, or reporting requirements and, therefore, do not require further OMB clearance.

² 44 USC 3501-3520.

List of Subjects in 16 CFR Part 305

Advertising, Energy conservation, Household appliances, Labeling, Reporting and recordkeeping requirements.

For the reasons stated in the preamble, the Federal Trade Commission amends 16 CFR Part 305 as amended at 71 FR 78064, December 28, 2006 and 73 FR 39221, July 9, 2008, as follows:

PART 305—[AMENDED]

1. The authority citation for Part 305 continues to read as follows:

Authority: 42 U.S.C. 6294.

2. Section 305.2 is amended as follows:

a. Revise paragraphs (l)(21) and (l)(22) and add paragraph (l)(23); and

b. Revise paragraph (p).

The addition and revisions read as follows:

§ 305.2 Definitions.

* * * * *

(l) * * *

(21) Metal halide lamp fixtures.

(22) Ceiling fans.

(23) Any other type of consumer product that the Department of Energy classifies as a covered product under section 322(b) of the Act (42 U.S.C. 6292).

* * * * *

(p) Energy efficiency rating means the following product-specific energy usage descriptors: annual fuel utilization efficiency (AFUE) for furnaces; energy efficiency ratio (EER) for room air conditioners; seasonal energy efficiency ratio (SEER) for the cooling function of central air conditioners and heat pumps; heating seasonal performance factor (HSPF) for the heating function of heat pumps; airflow efficiency for ceiling fans; and, thermal efficiency (TE) for pool heaters, as these descriptors are determined in accordance with tests prescribed under section 323 of the Act (42 U.S.C. 6293). These product-specific energy usage descriptors shall be used in satisfying all the requirements of this part.

* * * * *

3. In section 305.3, revise paragraphs (s) and (t) to read as follows:

§ 305.3 Description of covered products.

* * * * *

(s) Metal halide lamp fixture means a light fixture for general lighting application that is designed to be operated with a metal halide lamp and a ballast for a metal halide lamp and that is subject to and complies with Department of Energy efficiency standards issued pursuant to 42 U.S.C. 6295.

(1) Metal halide ballast means a ballast used to start and operate metal halide lamps.

(2) Metal halide lamp means a high intensity discharge lamp in which the major portion of the light is produced by radiation of metal halides and their products of dissociation, possibly in combination with metallic vapors.

(t) Ceiling fan means a nonportable device that is suspended from a ceiling for circulating air via the rotation of fan blades. The requirements of this part are limited to those ceiling fans for which the Department of Energy has adopted and published test procedures for measuring energy usage.

* * * * *

4. Revise § 305.5(a)(11) to read as follows:

§ 305.5 Determinations of estimated annual energy consumption, estimated annual operating cost, and energy efficiency rating, and of water use rate.

(a) * * *

(11) Ceiling Fans—§ 430.23.

* * * * *

5. Revise § 305.7(l) to read as follows:

§ 305.7 Determinations of capacity.

* * * * *

(l) Ceiling fans. The capacity shall be the airflow in cubic feet per minute as determined according to appendix U of 10 CFR part 430, subpart B.

6. In § 305.8, revise paragraph (a)(1), (a)(5), and (b)(1) to read as follows:

§ 305.8 Submission of data.

(a)(1) Each manufacturer of a covered product (except manufacturers of fluorescent lamp ballasts, metal halide lamp fixtures, showerheads, faucets, water closets, urinals, general service fluorescent lamps, medium base compact fluorescent lamps, or general service incandescent lamps including incandescent reflector lamps) shall submit annually to the Commission a report listing the estimated annual energy consumption (for refrigerators, refrigerator-freezers, freezers, clothes washers, dishwashers, and water heaters) or the energy efficiency rating (for room air conditioners, central air conditioners, heat pumps, furnaces, ceiling fans, and pool heaters) for each basic model in current production, determined according to § 305.5 and statistically verified according to § 305.6. The report must also list, for each basic model in current production: the brand name; the model numbers for each basic model; the total energy consumption, determined in accordance with § 305.5, used to calculate the estimated annual energy consumption or energy efficiency rating; the number of tests performed; and, its capacity, determined in accordance with § 305.7. For those models that use more than one energy source or more than one cycle, each separate amount of energy consumption, measured in accordance with § 305.5, shall be listed in the report. Starting serial numbers or other numbers identifying the date of manufacture of covered products shall be submitted whenever a new basic model is introduced on the market. For ceiling fans, the report shall contain the fan diameter in inches and also shall contain efficiency ratings, energy consumption, and capacity at high speed.

* * * * *

(5) Each manufacturer of a metal halide lamp fixture shall submit annually to the Commission a report for each basic model of metal halide lamp fixture in current production. The report shall contain the following information:

(i) Name and address of manufacturer;

(ii) All trade names under which the metal halide lamp fixture is marketed;

(iii) Model number;

(iv) Starting serial number, date code or other means of identifying the date of manufacture (date of manufacture information must be included with only the first submission for each basic model);

(v) Type of ballast (e.g., pulse, probe, or electronic);

(vi) Nominal input voltage and frequency;

(vii) Ballast efficiency (as determined pursuant to 42 U.S.C. 6293(b)(18)); and

(viii) Lamp type and wattage (or range of wattages) with which the metal halide lamp fixture is designed to be used.

* * * * *

(b)(1) All data required by § 305.8(a) except serial numbers shall be submitted to the Commission annually, on or before the following dates:

Product category | Deadline for data submission
Refrigerators | Aug. 1
Refrigerators-freezers | Aug. 1
Freezers | Aug. 1
Central air conditioners | July 1
Heat pumps | July 1
Dishwashers | June 1
Water heaters | May 1
Room air conditioners | May 1
Furnaces | May 1
Pool heaters | May 1
Clothes washers | Oct. 1
Fluorescent lamp ballasts | Mar. 1
Showerheads | Mar. 1
Faucets | Mar. 1
Water closets | Mar. 1
Ceiling fans | Mar. 1
Urinals | Mar. 1
Metal halide lamp fixtures | Sept. 1
Fluorescent lamps | Mar. 1 [Stayed]
Medium Base Compact Fluorescent Lamps | Mar. 1 [Stayed]
Incandescent Lamps, incl. Reflector Lamps | Mar. 1 [Stayed]

* * * * *

7. Revise paragraph (a) in § 305.10 to read as follows:

§ 305.10 Ranges of comparability on the required labels.

(a) Range of Estimated Annual Operating Costs or Energy Efficiency Ratings. The range of estimated annual operating costs or energy efficiency ratings for each covered product (except fluorescent lamp ballasts, metal halide lamp fixtures, lamps, showerheads, faucets, water closets, urinals, or ceiling fans) shall be taken from the appropriate appendix to this part in effect at the time the labels are affixed to the product. The Commission shall publish revised ranges every five years beginning in 2012 in the Federal Register. When the ranges are revised, all information disseminated after 90 days following the publication of the revision shall conform to the revised ranges. Products that have been labeled prior to the effective date of a modification under this section need not be relabeled.

* * * * *

8. Add § 305.13 to read as follows:

§ 305.13 Labeling for ceiling fans.

(a) Ceiling Fans. (1) Content. Any covered product that is a ceiling fan shall be labeled clearly and conspicuously on the principal display panel with the following information in order from top to bottom on the label:

(i) The words “ENERGY INFORMATION” shall appear at the top of the label with the words “at High Speed” directly underneath;

(ii) The product’s airflow at high speed expressed in cubic feet per minute and determined pursuant to § 305.5 of this part;

(iii) The product’s electricity usage at high speed expressed in watts and determined pursuant to § 305.5 of this part, including the phrase “excludes lights” as indicated in Ceiling Fan Label Illustration of Appendix L of this part;

(iv) The product’s airflow efficiency rating at high speed expressed in cubic feet per minute per watt and determined pursuant to § 305.5 of this part;

(v) The following statement shall appear on the label for fans fewer than 49 inches in diameter: “Compare: 36″ to 48″ ceiling fans have airflow efficiencies ranging from approximately 71 to 86 cubic feet per minute per watt at high speed.”;

(vi) The following statement shall appear on the label for fans 49 inches or more in diameter: “Compare: 49″ to 60″ ceiling fans have airflow efficiencies ranging from approximately 51 to 176 cubic feet per minute per watt at high speed.”; and

(vii) The following statements shall appear at the bottom of the label as indicated in Ceiling Fan Label Illustration of Appendix L of this part: “Money-Saving Tip: Turn off fan when leaving room.”

(2) Label Size and Text Font. The label shall be four inches wide and three inches high. The text font shall be Arial or another equivalent font. The text on the label shall be black with a white background. The label’s text size and content, and the order of the required disclosures shall be consistent with Ceiling Fan Label Illustration of Appendix L of this part.

(3) Placement. The ceiling fan label shall be printed on the principal display panel of the product’s packaging.

(4) Additional Information: No marks or information other than that specified in this part shall appear on this label, except a model name, number, or similar identifying information.

(b) [Reserved]

9. In § 305.15, revise paragraph (c) to read as follows:

§ 305.15 Labeling for lighting products.

* * * * *

(c) Metal halide lamp fixtures and metal halide ballasts—(1) Contents. Metal halide ballasts contained in a metal halide lamp fixture covered by this Part shall be marked conspicuously, in color-contrasting ink, with a capital letter “E” printed within a circle. Packaging for metal halide lamp fixtures covered by this Part shall also be marked conspicuously with a capital letter “E” printed within a circle. For purposes of this section, the encircled capital letter “E” will be deemed ‘‘conspicuous,’’ in terms of size, if it is as large as either the manufacturer’s name or another logo, such as the “UL,” “CBM” or “ETL” logos, whichever is larger, that appears on the metal halide ballast, or the packaging for the metal halide lamp fixture, whichever is applicable for purposes of labeling.

(2) Product Labeling. The encircled capital letter “E” on metal halide ballasts must appear conspicuously, in color-contrasting ink (i.e., in a color that contrasts with the background on which the encircled capital letter “E” is placed) on the surface that is normally labeled. It may be printed on the label that normally appears on the metal halide ballast, printed on a separate label, or stamped indelibly on the surface of the metal halide ballast.

(3) Package Labeling. For purposes of labeling under this section, packaging for metal halide lamp fixtures consists of the plastic sheeting, or ‘‘shrink-wrap,’’ covering pallet loads of metal halide lamp fixtures as well as any containers in which such metal halide lamp fixtures are marketed individually or in small numbers. The encircled capital letter “E” on packages containing metal halide lamp fixtures must appear conspicuously, in color-contrasting ink, on the surface of the package on which printing or a label normally appears. If the package contains printing on more than one surface, the label must appear on the surface on which the product inside the package is described. The encircled capital letter “E” may be printed on the surface of the package, printed on a label containing other information, printed on a separate label, or indelibly stamped on the surface of the package. In the case of pallet loads containing metal halide lamp fixtures, the encircled capital letter “E” must appear conspicuously, in color-contrasting ink, on the plastic sheeting, unless clear plastic sheeting is used and the encircled capital letter “E” is legible underneath this packaging.

10. Section 305.20 is amended as follows:

a. In paragraph (a) of § 305.20, add the phrase “ceiling fan,” after the word “except.”

b. Revise paragraph (e) and add a new paragraph (f) to read as follows:

§ 305.20 Paper catalogs and websites.

* * * * *

(e) Any manufacturer, distributor, retailer, or private labeler who advertises metal halide lamp fixtures manufactured on or after January 1, 2009 in a catalog prepared after July 1, 2009, from which they may be purchased by cash, charge account or credit terms, shall disclose conspicuously in such catalog, in each description of such metal halide lamp fixture, a capital letter “E” printed within a circle.

(f) Any manufacturer, distributor, retailer, or private labeler who advertises a covered product that is a ceiling fan in a catalog, from which it may be purchased, shall disclose clearly and conspicuously in such catalog, on each page that lists the covered product, all the information concerning the product required by § 305.13(a)(1).

By direction of the Commission.

Donald S. Clark,
Secretary.

[FR Doc. E8-25225 Filed 10-22-08: 8:45 am]

[BILLING CODE: 6750-01-S]